NUCLEAR REGULATORY COMMISSION

Public Meeting on the Nuclear Regulatory Commission's Licensing Process for the Mixed Oxide Fuel Fabrication Facility; Notice of Meeting

AGENCY: Nuclear Regulatory Commission.

ACTION: Notice of meeting.

SUMMARY: The Nuclear Regulatory Commission (NRC) is hosting two public meetings to discuss the licensing process for the mixed oxide (MOX) fuel fabrication facility. One meeting will be held in Columbia, South Carolina, and the second meeting will be held in N. Augusta, South Carolina. The purpose of both meetings is to explain the NRC's role for MOX, describe the NRC's licensing process, describe opportunities for public participation during the licensing process, and to answer questions from meeting participants.

DATES: The meetings are scheduled for Wednesday, July 12, 2000, (Columbia, South Carolina) and July 13, 2000, (N. Augusta, South Carolina). Each meeting will run from 7 p.m. to 10 p.m. The meetings are open to the public.

ADDRESSES: The Columbia, South Carolina, meeting will be held at the University of South Carolina's Capstone Conference Center, which is located at 900 Barnwell St., Columbia, South Carolina. Parking is available on the street (free after 6 p.m.), or in lots located immediately Northwest of the Capstone building, the southern corner at the intersection of Barnwell and Pendleton, or at the intersection of Pendleton and Barnwell. The lots are free after 5 p.m.

The N. Augusta, South Carolina, meeting will be held at the N. Augusta Community Center. The N. Augusta Community Center is located at 495 Brookside Drive in N. Augusta, South Carolina. Parking is available adjacent to the building.

FOR FURTHER INFORMATION CONTACT: For further information regarding the meetings, contact Andrew Persinko, Office of Nuclear Material Safety and Safeguards, U.S. Nuclear Regulatory Commission, Washington, DC 20555, telephone (301) 415-6522 or e-mail axp1@nrc.gov.

Dated at Rockville, Maryland, this 23rd day of June, 2000.
For the Nuclear Regulatory Commission.
Michael Tokar,
Acting Chief, Special Projects Branch, Division of Fuel Cycle Safety and Safeguards, Office of Nuclear Material Safety and Safeguards.

[FR Doc. 00-16898 Filed 7-3-00; 8:45 am]

BILLING CODE 7590-01-P